DEPARTMENT OF EDUCATION

Capacity Building Program for Traditionally Underserved Populations—Technical Assistance for American Indian Vocational Rehabilitation Services Projects

Catalog of Federal Domestic Assistance (CFDA) Number: 84.406.

AGENCY: Office of Special Education and Rehabilitative Services, Department of Education.

ACTION: Notice of final priority.

SUMMARY: The Assistant Secretary for Special Education and Rehabilitative Services announces a priority under the Capacity Building program for Traditionally Underserved Populations to fund a grant that will establish a training and technical assistance center to support the projects funded under the American Indian Vocational Rehabilitation Services (AIVRS) program authorized under section 121 of the Rehabilitation Act of 1973, as amended (Act). The Assistant Secretary may use this priority for competitions in fiscal year 2010 and later years. We take this action to improve the provision of vocational rehabilitation (VR) services to, and the employment outcomes of, American Indians with disabilities through the provision of training and technical assistance to projects funded under the AIVRS program.

DATES: Effective Dates: This priority is effective June 14, 2010.

FOR FURTHER INFORMATION CONTACT: Thomas Finch, U.S. Department of Education, 400 Maryland Avenue, SW., Room 5147, Potomac Center Plaza (PCP), Washington, DC 20202-2800. Telephone: (202) 245-7343 or by e-mail: tom.finch@ed.gov.

If you use a telecommunications device for the deaf (TDD), call the Federal Relay Service (FRS), toll free, at 1-800-877-8339.

SUPPLEMENTARY INFORMATION: Purpose of Program: The Capacity Building Program for Traditionally Underserved Populations under section 21(b)(2)(C) of the Act (29 U.S.C. 718(b)(2)(C)) provides outreach and technical assistance to minority entities and American Indian tribes in order to enhance their capacity to carry out activities funded under the Act and to promote their participation in activities funded under the Act.

Program Authority: 29 U.S.C. 718(b)(2)(C).

We published a notice of proposed priority for this program in the Federal Register on November 12, 2009 (74 FR 58260). That notice contained background information and our reasons for proposing the particular priority.

Public Comment: In response to our invitation in the notice of proposed priority, six parties submitted comments on the proposed priority.

Generally we do not address technical and other minor changes, or suggested changes the law does not authorize us to make under the applicable statutory authority. In addition we do not address general comments that raised concerns not directly related to the proposed priority.

Analysis of Comments and Changes: An analysis of the comments received follows.

Comment: Six commenters expressed concern regarding the adequacy of resources proposed to support the AIVRS technical assistance center (the AIVRS TA Center). Specifically, these commenters noted that the amount of funding proposed for the AIVRS TA Center is significantly less than the funding provided for the Regional Technical Assistance and Continuing Education (TACE) centers. They also questioned whether it was sufficient to fund a single center to serve 79 AIVRS grantees located in 25 States. In addition to concerns about the adequacy of funding, these commenters emphasized that the AIVRS TA Center will face geographic, cultural, linguistic, and resource challenges.

Discussion: In the background discussion of the proposed AIVRS TA Center priority, the Department indicated that it plans to use American Recovery and Reinvestment Act (ARRA) funds in the amount of $1.4 million for one grantee over a five-year period, approximately $280,000 per year. We believe that this is a significant investment that will help AIVRS projects improve outcomes for American Indians with disabilities.

We do not believe it is appropriate to compare the funding for the AIVRS TA Center with the funding provided to the TACE centers, because the scope of the services to be provided by the AIVRS TA Center is much narrower than the scope of services provided by the 10 TACE centers. The AIVRS TA Center is designed to focus solely on AIVRS grantees' specialized needs for assistance with program and financial management. Specifically, the AIVRS TA Center will provide training to AIVRS grantees on: (1) The principles, requirements, and practices that serve as the foundation of the VR process and service provision; (2) the application of Federal rules, regulations, and guidance applicable to the AIVRS program; and (3) appropriate financial management practices, including expending grant funds in a timely manner. In contrast, the purpose of the TACE centers is to provide a broad integrated sequence of training activities that focuses on meeting the recurring and common training needs of rehabilitation personnel in a Federal region or other large multi-State geographical area.

For this reason, we believe it is not appropriate to compare the resources used to support the TACE centers with the resources the Department expects to use to support the AIVRS TA Center.

Moreover, it is important to note that the work of the AIVRS TA Center will complement the services provided by the TACE centers, because AIVRS grantees are among the many State VR agency partners eligible to receive services from the TACE centers. Therefore, in addition to the specialized program and financial management assistance AIVRS grantees can receive through the AIVRS TA Center, they may be eligible to request technical assistance and continuing education services from the regional TACE centers.

We also believe that the resources available to the AIVRS TA Center will be sufficient for it to provide its services to AIVRS grantees, despite the number of grantees and the geographic, cultural, and linguistic diversity of the projects funded under the AIVRS program. We anticipate that the AIVRS TA Center will provide training and technical assistance that is targeted to AIVRS grantees with a demonstrated need for training that focuses on the areas identified in the priority, rather than broadly disseminating training on generally applicable principles to all AIVRS grantees. Furthermore, the Department plans to use the cooperative agreement process to ensure that the AIVRS TA Center provides its training and technical assistance in a culturally appropriate manner to the AIVRS grantees its serves.

Changes: None.

Comment: Six commenters noted that training and technical assistance to be provided by the AIVRS TA Center must be delivered in a culturally appropriate manner to tribal VR directors and staff. Specifically, the commenters emphasized the need for the AIVRS TA Center to be under the control and direction of an organization that appreciates the complexity and diversity of Native American culture and that has a long-standing record of dealing with culturally diverse populations.

Discussion: The Department recognizes the unique nature of the AIVRS programs. It is precisely for this reason that the Department is using the available ARRA funds to establish an AIVRS TA Center, which will focus solely on the technical assistance needs of AIVRS grantees. We agree that it is essential that the AIVRS TA Center deliver its training and technical assistance services in a culturally appropriate manner, and, therefore, we have added such a requirement to the priority. Moreover, the Department intends to award this grant as a cooperative agreement to ensure that there is substantial involvement, communication, and collaboration between the Department and the grantee in carrying out the activities of the center. Through this involvement, communication, and collaboration, we intend to ensure that the AIVRS TA Center fulfills the priority's requirement of providing training and technical assistance to AIVRS personnel in a culturally appropriate manner.

Changes: The Department has added language to the priority that requires the AIVRS TA Center, in coordination with the Department, to provide the listed training and technical assistance services in a culturally appropriate manner.

Comment: Six commenters requested that the final priority allow the AIVRS TA Center to use its funds to support formal academic preparation (at the undergraduate and graduate levels) of existing personnel employed by AIVRS grantees.

Discussion: The Department already sponsors both Long-Term and Short-Term VR Training programs to prepare students and professional staff interested in careers in VR. Through these programs, AIVRS staff are eligible to apply for financial support available to individuals pursuing undergraduate or graduate degrees in a variety of VR specialties. As noted earlier in this notice, AIVRS staff may also receive training from the regional TACE centers, which are designed to serve State VR agencies and their partners by providing training activities that focus on meeting the recurrent and common training needs of employed rehabilitation personnel.

Changes: None.

Comment: Six commenters stated that there should be linkages between the existing TACE centers and the AIVRS TA Center in order to maximize available funding for technical assistance for AIVRS grantees and State VR agencies.

Discussion: RSA has identified certain areas where AIVRS grantees require more intensive technical assistance and training than can be provided by the TACE centers. These areas include but are not limited to: understanding the principles, requirements, and practices that serve as the foundation of the VR process and services provision; understanding and applying Federal rules, regulations, and guidance applicable to the AIVRS program; and implementing appropriate financial management practices, including expending grant funds in a timely manner. While AIVRS grantees are included among the State VR agency partners eligible for the services provided by the TACE centers, the primary focus of the TACE centers is to improve the performance and compliance of State VR agencies. However, the TACE centers may be able to provide certain training and technical assistance to AIVRS grantees that would be beyond the narrow focus of the AIVRS TA Center, but within the scope of services the TACE centers provide. In order to ensure that the services of the AIVRS TA Center complement, and do not unnecessarily duplicate, the services potentially available to the AIVRS grantees from the TACE centers, the Department has added a requirement to the priority to address this concern.

Changes: The Department has added, as one of the requirements of the AIVRS TA Center under the priority, that the AIVRS TA Center must collaborate with the regional TACE centers to ensure that the services provided by the AIVRS TA Center and the TACE centers complement, and do not unnecessarily duplicate, each other.

Final Priority:

The Assistant Secretary for Special Education and Rehabilitative Services establishes a priority to support a technical assistance center under section 21(b)(2)(C) of the Rehabilitation Act of 1973, as amended (the Act), to improve project management and the delivery of vocational rehabilitation (VR) services to American Indians with disabilities under the American Indian Vocational Rehabilitation Services (AIVRS) program (the AIVRS TA Center). The Department intends to award this grant as a cooperative agreement to ensure that there is substantial involvement (i.e., significant communication and collaboration) between the Rehabilitation Services Administration (RSA) and the grantee in carrying out the activities of the center. (34 CFR 75.200(b)(4))

In coordination with the Department, the AIVRS TA Center must, in a culturally appropriate manner—

(1) Provide training and technical assistance to AIVRS grantees to improve their understanding of the principles, requirements, and practices that serve as the foundation of the VR process and VR service provision (e.g., the determination of eligibility, the development of individualized plans for employment, and the requirement to provide informed consumer choice);

(2) Provide comprehensive training to AIVRS staff on the regulatory requirements and grants management practices that are necessary for the proper administration of AIVRS projects including, but not limited to, requirements found in 34 CFR parts 369 and 371 and the Education Department General Administrative Regulations (EDGAR);

(3) Provide comprehensive training on requirements and practices associated with fiscal management found in EDGAR, the cost principles of the Office of Management and Budget (OMB) Circular A-87, and general fiscal management practices;

(4) Provide guidance on the need to utilize community resources and build relationships with State VR agencies in order to expand the range of the employment choices available for consumers and of the financial resources projects can leverage in order to provide the services consumers need;

(5) Provide training on how the AIVRS projects can improve inter- and intra-tribal communication regarding confidentiality and the development of cooperative agreements with State VR agencies and Federal entities (e.g., the Department of the Interior and the Bureau of Indian Affairs);

(6) Provide technical assistance on methods associated with measuring project performance, including the development of goals, performance measures, and efficiency models, and on the reporting of performance data;

(7) Identify other technical assistance and training needs of the AIVRS projects;

(8) Provide technical assistance to AIVRS project directors that will allow them to develop the skills and capacity necessary to train AIVRS project staff themselves and build an infrastructure that sustains training and technical assistance for these projects; and

(9) Collaborate with the regional TACE centers to ensure that the services provided by the AIVRS TA Center and the TACE centers complement, and do not unnecessarily duplicate, each other.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this final regulatory action are those resulting from statutory requirements and those we have determined as necessary for administering this program effectively and efficiently.

In assessing the potential costs and benefits—both quantitative and qualitative—of this final regulatory action, we have determined that the benefits of the final priority justify the costs.

We have determined, also, that this final regulatory action does not unduly interfere with State, local, and tribal governments in the exercise of their governmental functions.

We summarized the costs and benefits of this regulatory action in the notice of proposed priority.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 11, 2010.
Alexa Posny,
Assistant Secretary for Special Education and Rehabilitative Services.

[FR Doc. 2010-11606 Filed 5-13-10; 8:45 am]

BILLING CODE 4000-01-P